DEPARTMENT OF ENERGY

Federal Energy Regulatory Commission

Notice of Amendment of License and Soliciting Comments, Motions To Intervene, and Protests

May 31, 2001.

Take notice that the following hydroelectric application has been filed with the Federal Energy Regulatory Commission and is available for public inspection:

a. Application Type: Temporary Amendment of License.

b. Project No.: 8361-034.

c. Date Filed: May 18, 2001.

d. Applicant: Olsen Power Partners.

e. Name of Project: Olsen Water Power Project.

f. Location: The Olsen Water Power Project is located on Old Cow Creek in Shasta County, California. The project occupies lands of the United States administered by the U.S. Bureau of Reclamation.

g. Filed Pursuant to: Federal Power Act, 16 U.S.C. 791(a)-825(r).

h. Applicant Contact: Mr. Arthur Hagood, Synergics Energy Services, 191 Main Street, Annapolis, MD 21401; (410) 268-8820.

i. FERC Contact: Questions about this notice can be answered by Thomas Lo Vullo at (202) 219-1168 or e-mail address: thomas.lovullo@ferc.fed.us. The Commission cannot accept comments, recommendations, motions to intervene or protests sent by e-mail. These documents must be filed as described below.

j. Deadline for filing comments, terms and conditions, motions to intervene, and protests: 14 days from the issuance date of this notice.

All documents (original and eight copies) should be filed with: David P. Boergers, Secretary, Federal Energy Regulatory Commission, 888 First Street, NE., Washington, DC 20426. Comments, protests, and interventions may be filed electronically via the internet in lieu of paper. See 18 CFR 385.2001(a)(1)(iii) and the instructions on the Commission's web site at http://www.ferc.fed.us/efi/doorbell.htm.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Olsen Power Partners request a temporary amendment of license article 402 which states, in part, that the licensee shall discharge from the Olsen Project diversion structure, a continuous minimum flow of 30 cubic feet per second (cfs), as measured at the point of diversion, or inflow to the project, whichever is less, for the protection of fish and wildlife resources in Old Cow Creek. The licensee proposed to reduce the minimum flow to 16 cfs for a 180 day period from March 1, 2001. Olsen Power Partners stated that studies would be conducted on the effect of the flow and presented at the end of the 180 day period.

l. Location of the Application: A copy of the application is available for inspection and reproduction at the Commission's Public Reference Room at 888 First Street, NE., Room 2A, Washington, DC 20426, or by calling (202) 208-1371. The application may be viewed on the web at http://www.ferc.fed.us/online/rims.htm. Call (202) 208-2222 for assistance. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party tot he proceeding. Any comments, protests, or motions to intervene must be received on or before the specified comment date for the particular application.

o. Filing and Service of Responsive Documents—Any filings must bear in all capital letters the title “COMMENTS,” “RECOMMENDATIONS FOR TERMS AND CONDITIONS,” “PROTEST,” or “MOTION TO INTERVENE,” as applicable, and the Project Number of the particular application to which the filing refers. A copy of any motion to intervene must also be served upon each representative of the Applicant specified in the particular application.

p. Agency Comments—Federal, state, and local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 01-14064 Filed 6-4-01; 8:45 am]

BILLING CODE 6717-01-M